DEPARTMENT OF TRANSPORTATION

Federal Aviation Administration

14 CFR Part 39

[Docket No. 2003-NE-24-AD; Amendment 39-13211; AD 2003-13-11]

RIN 2120-AA64

Airworthiness Directives: Pratt & Whitney PW4074, PW4074D, PW4077, PW4077D, PW4090, and PW4090-3 Turbofan Engines

Correction

In rule document 03-15992 beginning on page 38592 in the issue of Monday, June 30, 2003 make the following correction:

§ 39.13 [Corrected]

On page 38594, in Table 1., in § 39.13, in the first column, in the second entry, in the second line, “incorporating a scalloped J” should read “incorporating a scalloped J flange design during production”.

[FR Doc. C3-15992 Filed 7-9-03; 8:45 am]

BILLING CODE 1505-01-D